DEPARTMENT OF JUSTICE

Antitrust Division

Notice Pursuant to the National Cooperative Research and Production Act of 1993—U.S. Steel Group (a Unit of USX Corporation) and Kobe Steel, Ltd.

Notice is hereby given that, on March 6, 2001, pursuant to Section 6(a) of the National Cooperative Research and Production Act of 1993, 15 U.S.C. 4301 et seq. (“the Act”), U.S. Steel Group has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are U.S. Steel Group (a unit of USX Corporation), Pittsburgh, PA; and Kobe Steel, Ltd., Kobe, JAPAN. The nature and objectives of the venture are developing new and/or improved steel sheet products, product technologies and/or product quality for automotive applications.

Constance K. Robinson,
Director of Operations, Antitrust Division.

[FR Doc. 01-7775 Filed 3-28-01; 8:45 am]

BILLING CODE 4410-11-M